DEPARTMENT OF LABOR

Employment and Training Administration

[TA-W-72,554]

General Motors Company, Pontiac Company, Pontiac, MI; Notice of Affirmative Determination Regarding Application for Reconsideration

By application dated June 11, 2010, a representative of the International Union of United Automobile, Aerospace, and Agricultural Implement Workers of America (UAW) requested administrative reconsideration of the negative determination regarding workers' eligibility to apply for Trade Adjustment Assistance (TAA) applicable to workers and former workers of the subject firm. The determination was issued on April 12, 2010 and the Notice of Determination was published in the Federal Register on May 20, 2010 (75 FR 28301). The workers produce the GMC Sierra and Chevrolet Silverado.

The negative determination was based on the findings that there was no increase in imports by the firm or customers or a shift to/acquisition from a foreign country by the workers' firm of articles like or directly competitive with the automobiles produced by the workers. The investigation also revealed that the workers did not produce a component part that was used by a firm that employed workers eligible to apply for TAA and that directly incorporated the component parts into the article that was the basis for the TAA certification.

The UAW's request for reconsideration states that production of standard cab and extended cab GMC Sierra and Chevrolet Silverado vehicles shifted to an affiliated facility in Mexico. The request for reconsideration also includes new information in support of the allegation.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26899 Filed 10-22-10; 8:45 am]

BILLING CODE 4510-FN-P